DEPARTMENT OF TRANSPORTATION

National Highway Traffic Safety Administration

49 CFR Part 571

[Docket No. 00-7145]

[RIN No. 2127-AH61]

Federal Motor Vehicle Safety Standards; Head Impact Protection

AGENCY: National Highway Traffic Safety Administration (NHTSA), DOT.

ACTION: Extension of comment period.

SUMMARY: This document grants a request to extend the comment period on an agency proposal to amend the upper interior impact requirements of its standard on occupant protection in interior impact by modifying the minimum distance between certain target points on vertical surfaces inside a vehicle and by adding target points for pillar-like structures that do not meet the definition of “pillar,” i.e., certain door frames and vertical seat belt mounting structures.

DATES: Extended comment closing date: Comments on the April 5, 2000 proposal, 65 FR 17842, Docket No. 00-7145, must be received by the agency on or before close of business on July 5, 2000.

ADDRESSES: You should mention the docket number of this document in your comments and submit your comments in writing to: Docket Management, Room PL-401, 400 Seventh Street, SW, Washington, DC 20590. Alternatively, you may submit your comments electronically by e-mail at http://dms.dot.gov.

You may call the Docket at 202-366-9324, and visit it from 10:00 a.m. to 5:00 p.m., Monday through Friday.

FOR FURTHER INFORMATION CONTACT: For non-legal issues, you may call Dr. William Fan, Office of Crashworthiness Standards, at (202) 366-4922, facsimile (202) 366-4329, electronic mail “bfan@nhtsa.dot.gov”. For legal issues, you may call Otto Matheke, Office of the Chief Counsel, at 202-366-5263.

SUPPLEMENTARY INFORMATION: On April 5, 2000, NHTSA published a notice of proposed rulemaking proposing to amend the upper interior impact requirements of Standard No. 201, Occupant Protection in Interior Impact, in several respects. One proposal addressed the minimum distance between certain target points on vertical surfaces inside a vehicle. Compliance with the upper interior impact requirements is determined, in part, by measuring the forces experienced by a test device known as the Free Motion Headform (FMH) when it impacts certain target points in the vehicle interior. To ensure that the damage caused by the testing of one target point does not overlap the testing of nearby target points, the standard specifies that tested targets be at least a certain distance apart; currently 150 mm (6 inches). We proposed expanding this minimum distance to 200 mm (8 inches) for tests performed on certain vertical surfaces in order to alleviate concerns that the current distance is not large enough to prevent the FMH impact area for one target point from overlapping the FMH impact areas for nearby target points in the same vehicle. We also proposed adding target points for pillar-like structures that do not meet the definition of “pillar,” i.e., certain door frames and vertical seat belt mounting structures and are therefore not currently subject to Standard No. 201. We tentatively concluded that these structures are the equivalent of “pillars” now covered by the Standard.

The NPRM specified a comment closing date of June 5, 2000 (60 days after date of publication). However, on May 16, 2000, we received a request for an extension of the comment closing date from Advocates for Highway and Auto Safety (Advocates). Advocates stated that it wished to provide comments on our proposal, but was unable to do so in a timely fashion due to the organization's limited resources and a competing need to comment on a number of other pending regulatory proposals affecting highway and highway safety. Therefore, Advocates requested an additional 60 days for submission of its comments.

Particularly because Advocates is a prominent public interest organization dedicated to the consideration of issues related to highway and vehicle safety, the agency is interested in its comments. Thus, in order to provide the Advocates and other interested parties ample time and opportunity to express their views on the proposed amendments to Standard No. 201, NHTSA believes that there is good cause for the extension of the comment period. However, the agency does not believe that an extension of 60 days is warranted or would be in the public interest. NHTSA has determined that it is appropriate to extend the comment period for 30 days and that such extension is consistent with the public interest. Accordingly, the Advocates request to extend the comment period for an additional 60 days is denied, but the comment period is extended for a period of 30 days to July 5, 2000.

Authority: 49 U.S.C. 322, 30111, 30115, 30117, and 30166; delegation of authority is at 49 CR 1.50.

Issued on June 2, 2000.
Stephen R. Kratzke,
Associate Administrator for Safety Performance Standards.

[FR Doc. 00-14277 Filed 6-2-00; 12:34 pm]

BILLING CODE 4910-59-P